DEPARTMENT OF TRANSPORTATION

Federal Aviation Administration

[Docket No. 2025-1704]

Agency Information Collection Activities: Requests for Comments; Clearance of New Approval of Information Collection: Section 353 Survey To Evaluate Airport Ramp Worker Safety

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on September 26, 2025. The collection involves the use of a questionnaire to determine the guidance, training, and technology being used to prevent accidents involving ramp workers. The information to be collected is necessary to support the implementation of section 353 of the FAA Reauthorization Act of 2024 (Pub. L. 118-63).

DATES: Written comments should be submitted by March 23, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Caroline Bonynge by email at: caroline.b.bonynge@faa.gov; phone: 202-367-6757.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-

Title: Section 353 Survey to Evaluate Airport Ramp Worker Safety.

Form Numbers: N/A.

Type of Review: This is a review of a new information collection.

Background: The Federal Register Notice with a 60-day comment period soliciting comments on the following collection of information was published on September 26, 2025 (90 FR 46457). Under the authority of section 353 of the 2024 FAA Reauthorization Act, this information collection supports the FAA efforts to evaluate airport ramp worker safety, with a focus on identifying and reducing accidents related to ingestion zones and jet blast zones. These zones present serious hazards to ground personnel, and this initiative seeks to better understand the conditions, contributing factors, and potential mitigation strategies to improve safety across U.S. airports.

Data will be collected through voluntary questionnaires distributed to airport ramp workers, ground service providers, airline operators, and safety personnel. The questionnaires will ask respondents about their experiences, observed hazards, safety training, and recommendations related to working near aircraft engines and blast areas. The FAA will use this information to identify trends, gaps in training or procedures, and opportunities for regulatory or operational improvements. Data collection will be primarily electronic, using secure online platforms to minimize the respondents' burden and ensure efficient processing. This collection supports the FAA's safety mission and fulfills a legal mandate to assess and improve workplace safety in airport operational areas.

Respondents: Of the airport ramp workers, ground service providers, airline operators, and safety personnel polled, it is estimated that approximately 100 will respond.

Frequency: Once.

Estimated Average Burden per Response: 2 hours.

Estimated Total Annual Burden: 200 hours.

Issued in Washington, DC.
Kelvin K. Ampofo,
Acting Manager, Airport Safety and Operations (AAS-300).

[FR Doc. 2026-03386 Filed 2-19-26; 8:45 am]

BILLING CODE 4910-13-P